OFFICE OF MANAGEMENT AND BUDGET

Public Availability of Fiscal Year 2012 and 2013 Agency Inventories Under the Federal Activities Inventory Reform Act

AGENCY: Office of Management and Budget, Executive Office of the President.

ACTION: Notice of Public Availability of Agency Inventory of Activities that are not Inherently Governmental and of Activities that are Inherently Governmental.

SUMMARY: The Federal Activities Inventory Reform (FAIR) Act, Public Law 105-270, requires agencies to develop inventories each year of activities performed by their employees that are not inherently governmental functions. The FAIR Act further requires OMB to review the inventories in consultation with the agencies. Once that review is complete, agencies are required to make the list available to the public and OMB must publish a notice of public availability in the Federal Register. In accordance with the FAIR Act, OMB is publishing this notice to announce the availability of inventories for Fiscal Years (FY) 2012 and 2013 from the agencies listed below. These inventories identify activities that are not inherently governmental and those activities that are inherently governmental. If an agency has not yet posted its inventory on its Web site, the agency's point of contact should be able to assist.

As provided in the FAIR Act, interested parties who disagree with the agency's initial judgment may challenge the inclusion, or the omission, of an activity on the list of activities that are not inherently governmental within 30 working days of this Notice and, if not satisfied with this review, may appeal to a higher level within the agency.

Shaun Donovan,
Director.

Attachment—FAIR Act Release FY 2012 and FY 2013
Agency | Point of contact | Email | Telephone | Website
Chief Financial Officer (CFO) Act Agencies
1. Department of Commerce | Stephanie Green | sgreen@doc.gov | 202-482-7413 | www.commerce.gov
2. Department of Defense | Joe Sikes | Joseph.Sikes@osd.mil | 571-372-6830 | www.acq.osd.mil
| Warren Champ | Warren.Champ@DODIG.MIL | 703-699-5418 | http://www.dodig.mil
3. Department of Education | James Ropelewski | Jim.Ropelewski@ed.gov | 202-245-6289 | http://www.ed.gov.
4. Department of Energy | Jeff Davis | jeff.davis@hq.doe.gov | 202-287-1877 | http://energy.gov
5. Department of Health and Human Services | Cassandra Duarte | Cassandra.Duarte@hhs.gov | 202-690-6075 | http://www.hhs.gov/
6. Department of Homeland Security | Gail Carter | gail.carter@hq.dhs.gov | 202-447-5302 | www.dhs.gov
7. Department of Housing and Urban Development | Wynee Watts-Mitchell | Wynee.WattsMitchell@hud.gov | 202-402-3893 | http://portal.hud.gov
8. Department of the Interior | Brigitte Meffert | Brigitte_Meffert@ios.doi.gov | 202-513-0699 | www.doi.gov
9. Department of Justice | Dennis McCraw | dennis.mccraw@usdoj.gov | 202-616-3754 | http://www.justice.gov/
10. Department of Labor | Tanisha Bynum-Frazier | bynum.frazier.t@dol.gov | 202-693-4546 | www.dol.gov
11. Department of State | Tonia Chapman | ChapmanTF@State.gov | 703-875-4874 | http://www.state.gov
12. Department of Transportation | Diane Morrison | diane.morrison@dot.gov | 202-366-4960 | www.dot.gov
13. Department of the Treasury | Jim Sullivan | James.Sullivan@treasury.gov | 202-622-9395 | http://www.treasury.gov/
14. Department of Veterans Affairs | Diane Burton | diane.burton@va.gov | 202-632-7291 | http://www.va.gov
15. Environmental Protection Agency | Jennifer Cranford | Cranford.Jennifer@epa.gov | 202-564-0798 | www.epa.gov
16. General Services Administration | Paul Boyle | paul.boyle@gsa.gov | 202-501-0324 | www.gsa.gov
17. National Aeronautics and Space Administration | Craig Bowers | craig.w.bowers@nasa.gov | 202-358-2235 | http://www.nasa.gov/
18. National Science Foundation | Kurtis Shank | kshank@nsf.gov | 703-292-2261 | www.nsf.gov
19. Nuclear Regulatory Commission | Carolyn Cooper | carolyn.cooper@nrc.gov | 301-287-3721 | www.nrc.gov
20. Office of Personnel Management | William Curto | William.Curto@opm.gov | 202-606-1584 | http://www.opm.gov/
21. Small Business Administration | Paul Marshall | Paul.Marshall@sba.gov | 202-205-6240 | www.sba.gov
22. Social Security Administration | Peggy Mitchell | Peggy.S.Mitchell@ssa.gov | 410-965-9970 | www.socialsecurity.gov
23. United States Agency for International Development | Dawn Delmedico | Ddelmedico@usaid.gov | 202-712-5424 | www.usaid.gov
24. United States Department of Agriculture | Louise Fox | louise.fox@cfo.usda.gov | 202-720-3627 | http://www.usda.gov
Non-CFO Act Agencies
1. Broadcasting Board of Governors | Chris Luer | cluer@bbg.gov | 202-203-4608 | www.bbg.gov
2. Commodity Futures Trading Commission | Sonda Owens | sowens@cftc.gov | 202-418-5182 | www.cftc.gov
3. Consumer Product Safety Commission | Barbara Denny | bdenny@cpsc.gov | 301-504-7246 | http://www.cpsc.gov
4. Court Services and Offender Supervision Agency for the District of Columbia | Paul Girardo | Paul.Girardo@csosa.gov | 202-220-5718 | www.csosa.gov
5. Defense Nuclear Facilities Safety Board | Mark Welch | markw@dnfsb.gov | 202-694-7043 | http://www.dnfsb.gov
6. Equal Employment Opportunity Commission | Immanuel West | immanuel.west@eeoc.gov | 202-663-4310 | http://www.eeoc.gov
7. Executive Office of the President | Amanda Kepko | akepko@omb.eop.gov | 202-395-4844 | www.whitehouse.gov
8. Farm Credit Administration | Stephen Smith | smiths@fca.gov | 703-883-4275 | www.fca.gov
9. Federal Communications Commission | Tom Green | Tom.Green@fcc.gov | 202-418-0116 | www.fcc.gov
10. Federal Election Commission | Gilbert Ford | gford@fec.gov | 202-694-1216 | www.fec.gov
11. Federal Energy Regulatory Commission | Liana Coolman | Liana.coolman@ferc.gov | 202-502-6729 | www.ferc.gov
12. Federal Housing Financing Agency | Natalie Jolly | Natalie.Jolly@fhfa.gov | 202-649-3781 | www.fhfa.gov
13. Federal Labor Relations Authority | Sarah Whittle Spooner | SSpoon@flra.gov | 202-218-7791 | http://www.flra.gov
14. Federal Maritime Commission | Kathleen Keys | kkeys@fmc.gov | 202-523-5788 | www.fmc.gov
15. Federal Mediation & Conciliation Service | Glorious Broughton | gbroughton@fmcs.gov | 202-606-5460 | www.fmcs.gov
16. Federal Trade Commission | Michelle Thornton | Mthornton@ftc.gov | 202-393-0301 | http://www.ftc.gov
17. Holocaust Memorial Museum | Helen Shepherd | hshepherd@ushmm.org | 202-488-0400 x396 | http://www.ushmm.org
18. International Trade Commission | Karen Attardo | karen.attardo@usitc.gov | 202-205-2380 | www.usitc.gov
19. Merit Systems Protection Board | Kevin Nash | Kevin.Nash@mspb.gov | 202-653-6772 x4407 | www.mspb.gov
20. National Archives and Records Administration | Susan Ashtianie | susan.ashtianie@nara.gov | 301-837-1490 | www.archives.gov
21. National Endowment for the Arts | Ned Read | readn@arts.gov | 202-682-5782 | www.arts.gov
22. National Endowment for the Humanities | Barry Maynes | BMaynes@neh.gov | 202-606-8233 | www.neh.gov
23. National Labor Relations Board | Miles Robinson | Miles.Robinson@nlrb.gov | 202-273-3886 | http://www.nlrb.gov
24. National Transportation Safety Board | Lisa Kleiner | Lisa.Kleiner@ntsb.gov | 202-314-6462 | www.ntsb.gov
25. Office of Special Counsel | Edward Snyder | esnyder@osc.gov | 202-254-3648 | http://www.osc.gov/
26. Peace Corps | Sandra Harrell | sharrell@peacecorps.gov | 202-692-1107 | www.peacecorps.gov
27. Railroad Retirement Board | Keith Earley | Keith.Earley@rrb.gov | 312-751-4990 | www.rrb.gov
28. Securities and Exchange Commission | Lacey Dingman | dingmanl@sec.gov | 202-551-7500 | www.sec.gov
29. Selective Service System | Calvin Montgomery | Calvin.Montgomery@sss.gov | 703-605-4038 | www.sss.gov

[FR Doc. 2014-29387 Filed 12-15-14; 8:45 am]

BILLING CODE 3110-01-P